DEPARTMENT OF AGRICULTURE

Forest Service

Notice of Modoc County RAC Meeting

SUMMARY: Pursuant to the authorities in the Federal Advisory Committees Act (Pub. L. 92-463) and under the Secure Rural Schools and Community Self-Determination Act of 2000 (Pub. L. 106-393) the Modoc National Forest's Modoc County Resource Advisory Committee will meet Wednesday, January 8, 2003, in Alturas, California for a business meeting. The meeting is open to the public.

SUPPLEMENTARY INFORMATION: The business meeting January 8, begins at 4 p.m., at the Modoc National Forest Office, Conference Room, 800 West 12th St., Alturas. Agenda topics will include approval of November 13 minutes, reports from subcommittees, and discussion of potential projects for fiscal year 2004 that will improve the maintenance of existing infrastructure, implement stewardship objectives that enhance forest ecosystems, and restore and improve health and water quality that meet the intent of Public Law 106-393. Time will also be set aside for public comments at the beginning of the meeting.

FOR FURTHER INFORMATION: Contact Kathleen A. Jordan, Acting Forest Supervisor and Designated Federal Officer, at (530) 233-8700; or Public Affairs Officer Nancy Gardner at (530) 233-8713.

Kathleen A. Jordan,
Acting Forest Supervisor.

[FR Doc. 02-32047 Filed 12-19-02; 8:45 am]

BILLING CODE 3410-11-P